DEPARTMENT OF HEALTH AND HUMAN SERVICES

Centers for Disease Control and Prevention

[Program Announcement 03077]

Community-Based Interventions To Reduce Motor Vehicle-Related Injuries; Notice of Availability of Funds; Amendment

A notice announcing the availability of fiscal year (FY) 2003 funds for cooperative agreements for Community-Based Interventions to Reduce Motor Vehicle-Related Injuries was published in the Federal Register on May 19, 2003, Vol. 68, No. 69, pages 27078-27082. The notice is amended as follows:

On page 27078, Column 3, Section “D. Funding,” insert second paragraph “Recipient Financial Participation: Matching funds are not required for this program.”

On page 27082, Column 2, Section “J. Where to Obtain Additional Information,” under contact information for Tim Groza, MPA, Project Officer, replace “770-4676” with “770-488-4676”.

Dated: May 30, 2003.
Edward Schultz,
Acting Director, Procurement and Grants Office, Centers for Disease Control and Prevention.

[FR Doc. 03-14270 Filed 6-5-03; 8:45 am]

BILLING CODE 4163-18-P